NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by September 19, 2022. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2023-008

1. Applicant: Jay J. Rotella, Ecology Department, Montana State University, Bozeman, Montana 59717

Activity for Which Permit is Requested: Take, Harmful Interference, Enter Antarctic Specially Protected Area, Import Into USA. The permit applicant plans to continue long-term studies of Weddell seal (Leptonychotes weddellii) populations in Erebus Bay and the McMurdo Sound region to evaluate the demographic importance and geographic origins of immigration of this long-lived mammal. These studies may require the applicant and agents to enter into ASPAs in the area including ASPA 121, 137, 155, 157, 158, 161, and 173. Proposed research activities involve tag and release, weighing, tissue sample collection, and harassment by approach to read tags. The proposed research involves capture and release of up to 930 Weddell seal pups at one to four days after birth for flipper tagging per year. Up to 150 of the pups would also receive external instrumentation, be weighed, and have a skin biopsy taken. The applicant proposes to capture up to 515 adult Weddell seals per year using a head-bagging technique to place or replace flipper tags. Skin biopsies would be taken from up to 150 adult female Weddell seals. Up to 1800 adult Weddell seals would be harassed for observation, tag resighting, photography, and unintentional harassment per year. Additionally, up to 900 Weddell seal pups would be harassed through incidental disturbance as a part of the research per year. The applicant requests four Weddell seal unintentional mortalities, two pups and two adults, per year. The applicant also plans to collect tissues from adult Weddell seals found dead from natural causes. All samples collected during the course of this research would be imported into the United States. During the course of the study, the applicant anticipates incidental disturbance of a limited number of crabeater seals (Lobodon carcinophagus) and leopard seals (Hydrurga leptonyx). The permit applicant has received a Marine Mammal Protection Act permit for the proposed activities.

Location: Erebus Bay, McMurdo Sound; ASPA 121—Cape Royds, Ross Island; ASPA 137—North-West White Island, McMurdo Sound; ASPA 155—Cape Evans, Ross Island; ASPA 157—Backdoor Bay, Cape Royds, Ross Island; ASPA 158—Hut Point, Ross Island; ASPA 161—Terra Nova Bay, Ross Sea; ASPA 173—Cape Washington and Silverfish Bay, Terra Nova Bay, Ross Sea.

Dates of Permitted Activities: Dates. October 1, 2022-September 30, 2027.

Suzanne H. Plimpton,
Management Analyst, National Science Foundation.

[FR Doc. 2022-17755 Filed 8-17-22; 8:45 am]

BILLING CODE 7555-01-P